COMMISSION ON CIVIL RIGHTS

Sunshine Act Meetings

AGENCY: United States Commission on Civil Rights.

ACTION: Notice of Commission public business meeting.

DATES: Friday, February 18, 2022, 12:00 p.m. EST.

ADDRESSES: Meeting to take place by telephone and is open to the public by telephone: 888-204-4520, Conference ID #: 1292275.

FOR FURTHER INFORMATION CONTACT: Angelia Rorison: 202-376-7700; publicaffairs@usccr.gov.

SUPPLEMENTARY INFORMATION: In accordance with the Government in Sunshine Act (5 U.S.C. 552b), the Commission on Civil Rights is holding a meeting to discuss the Commission's business for the month of January. This business meeting is open to the public. Computer assisted real-time transcription (CART) will be provided. The web link to access CART (in English) on Friday, February 18, 2022, is https://www.streamtext.net/player?event=USCCR. Please note that CART is text-only translation that occurs in real time during the meeting and is not an exact transcript.

Meeting Agenda

I. Approval of Agenda

II. Business Meeting

A. Presentations by State Advisory Committee Chairs on Released Reports and Memorandums

B. Discussion and Vote on Advisory Committee Appointments

C. Discussion and Vote to Appoint Raul (Danny) Vargas as interim Chair of the Virginia Advisory Committee

D. Management and Operations

• Staff Director's Report

III. Adjourn Meeting

Dated: February 10, 2022.
Angelia Rorison,
USCCR Media and Communications Director.

[FR Doc. 2022-03198 Filed 2-11-22; 11:15 am]

BILLING CODE P